DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 4, 2002.

Interested persons are invited to submit written comments regarding the subject matter of the investigations to the Director, Division of Trade Adjustment, at the address shown below, not later than November 4, 2002.

The petitions filed in this case are available for inspection at the Office of the Director, Division of Trade Adjustment Assistance, Employment and Training Administration, U.S. Department of Labor, Room C-5311, 200 Constitution Avenue, NW., Washington, DC 20210.

Signed at Washington, DC this 19th day of August, 2002.
Edward A. Tomchick,
Director, Division of Trade Adjustment Assistance.

Appendix
[Petitions Instituted on 08/19/2002]
TA-W | Subject firm (petitioners) | Location | Date of petition | Product(s)
41,962 | Competitive Engineering (Comp) | Tucson, AZ | 08/07/2002 | Machine plastic and metal parts.
41,963 | Peterson Springs (UAW) | Three Rivers, MI | 08/07/2002 | Compression rings and snap rings.
41,964 | Donaldson Co., Inc. (Comp) | Baldwin, WI | 07/18/2002 | Steam turbines.
41,965 | JDS Uniphase (Comp) | Res. Triangle, NC | 08/08/2002 | Optical attenuators and switches.
41,966 | Crane Resistoflex (Comp) | Bay City, MI | 08/02/2002 | Plastic-lined pipes, fittings, and valve.
41,967 | Trego Industries, Inc. (Wrks) | Red Oak, TX | 08/02/2002 | Push and pull door bars.
41,968 | Crown Cork and Seal (IAMAW) | Portland, OR | 08/01/2002 | Metal can ends.
41,969 | New River Energetics (OCAW) | Radford, VA | 03/18/2002 | MACS Propellants.
41,970 | Dimension Tech, Inc. (Wrks) | Ironwood, MI | 08/02/2002 | Picture frame mouldings.
41,971 | Marland Mold (Wrks) | Pittsfield, MA | 07/12/2002 | Injection and compression molds.
41,972 | American Greetings Corp (Wrks) | Corbin, KY | 07/12/2002 | Greeting cards, candles, paper plates.
41,973 | Lapcor Plastics (PACE) | Manitowoc, WI | 07/25/2002 | Phenolic handles and knobs.
41,974 | Amerock Corp. (Comp) | Rockford, IL | 07/23/2002 | Cabinet knobs and pulls.
41,975 | Versa Tool (WRKS) | Meadville, PA | 08/01/2002 | Plastic injection molds and tooling.
41,976 | Black and Decker (Wrks) | Easton, MD | 08/01/2002 | Power tools.
41,977 | Helsapenn/Penn Pad (UNITE) | Philadelphia, PA | 07/26/2002 | Shoulder pads.
41,978 | Nidec America Corp (Comp) | Canton, MA | 07/29/2002 | AC/DC power supplies.
41,979 | Corning Cable Systems (Wrks) | Strafford, MO | 04/22/2002 | Metal telephone pedestals.
41,980 | Young American Clothing (UNITE) | Newark, NJ | 07/29/2002 | Women's coats.
41,981 | Carolina Mills, Inc. (Comp) | Gastonia, NC | 07/19/2002 | Textile yarns.
41,982 | Kato Engineering, Inc. (Wrks) | North Mankato, MN | 08/12/2002 | Electrical generators and motor sets.
41,983 | ADC Telecommunications (Wrks) | Minnetonka, MN | 07/25/2002 | Subscriber line repeaters.
41,984 | Emerson Appliance Control (Wrks) | Sparta, TN | 07/29/2002 | Water valves and dryer timers.
41,985 | DeRoyal Patient Care (Wrks) | Maynardville, TN | 07/31/2002 | Vest and wrist restraints.
41,986 | Stan's Wood Products (Wrks) | Redmond, OR | 07/17/2002 | Partical board stickers.
41,987 | Alcoa Wenatchee Works (WLTC) | Malaga, WA | 08/01/2002 | Aluminum and alloys.
41,988 | Sun Belt Interplex (Wrks) | Tamarac, FL | 08/06/2002 | Precision metal stampings.
41,989 | Pinnacle, Magee (Wrks) | Piggott, AR | 07/31/2002 | Wood frames.
41,990 | General Motors Corp (UAW) | Linden, NJ | 08/09/2002 | Pickup trucks and sports utility vehicle.
41,991 | Donna Karan Co (UNITE) | New York, NY | 08/03/2002 | Women's clothing.
41,992 | General Electric Co (UE) | Erie, PA | 08/13/2002 | Diesel electric locomotives and component.
41,993 | Philips Semiconductors (Comp) | Albuquerque, NM | 08/05/2002 | Semiconductor wafers.
41,994 | Lucedale Industries (Comp) | Lucedale, MS | 08/05/2002 | Knit shirts.
41,995 | Reliant Manufacturing (UAW) | Chesterfield, MI | 08/12/2002 | Automotive exhaust manifolds.
41,996 | Eagle Bridge Machine (Wrks) | Eagle Bridge, NY | 08/02/2002 | Cast aluminum alternators.
41,997 | Mettler Toledo Spart. Prod (Comp) | Inman, SC | 08/02/2002 | Load cells and light capacity scales.
41,998 | Clore Automotive (Comp) | Bloomington, MN | 08/05/2002 | Battery jump starters and chargers.
41,999 | New Holland Industries (Comp) | New Holland, PA | 08/06/2002 | Spread and cut sleepwear material.
42,000 | Daicolor-Pope, Inc. (PACE) | Paterson, NJ | 07/30/2002 | Organic pigments.
42,001 | Wain Mfg/Calif Optical (Wrks) | Lynn, MA | 08/09/2002 | Eyeglass cases.
42,002 | Metso Mineral (USA) (PACE) | Clintonville, WI | 08/06/2002 | Bulk material conveyers

[FR Doc. 02-24103 Filed 9-02-02; 8:45am]

BILLING CODE 4510-30-M